DEPARTMENT OF COMMERCE

International Trade Administration

[A-570-119]

Antidumping Duty Order on Certain Vertical Shaft Engines Between 225cc and 999cc, and Parts Thereof From the People's Republic of China: Final Results of Changed Circumstances Review

AGENCY: Enforcement and Compliance, International Trade Administration, Department of Commerce.

SUMMARY: The U.S. Department of Commerce (Commerce) continues to determine that Honda Power Products (China) Co., Ltd. (Honda) is the successor-in-interest to Jialing-Honda Motors Co., Ltd. (Jialing) and is entitled to the same cash deposit rate as Jialing under the antidumping duty (AD) order on certain vertical shaft engines between 225cc and 999cc and parts thereof (vertical shaft engines) from the People's Republic of China (China).

DATES: Applicable August 24, 2022.

FOR FURTHER INFORMATION CONTACT: Leo Ayala or Jacob Saude AD/CVD Operations, Office VII, Enforcement and Compliance, International Trade Administration, U.S. Department of Commerce, 1401 Constitution Avenue NW, Washington, DC 20230; telephone: (202) 482-3945 or (202) 482-0981, respectively.

SUPPLEMENTARY INFORMATION:

Background

On June 9, 2022, Commerce published the Preliminary Results ¹ of the changed circumstances review (CCR) of the AD order on vertical shaft engines from China.² In the Preliminary Results, we provided interested parties with an opportunity to comment regarding our Preliminary Results.³ On July 25, 2022, Honda timely submitted a letter in lieu of a case brief supporting the Preliminary Results.⁴

¹ See Preliminary Results of Changed Circumstances Review: Antidumping Duty Order on Certain Vertical Shaft Engines Between 225cc and 999cc, and Parts Thereof from the People's Republic of China, 87 FR 35163 (June 9, 2022 (Preliminary Results), and accompanying Preliminary Decision Memorandum.

² See Certain Vertical Shaft Engines Between 225cc and 999cc, and Parts Thereof from the People's Republic of China: Amended Final Antidumping Duty Determination and Antidumping Duty Order, 86 FR 12623 (March 4, 2021); see also Certain Large Vertical Shaft Engines Between 225cc and 999cc, and Parts Thereof, from the People's Republic of China: Notice of Correction to the Amended Final Antidumping Duty Determination and Antidumping Duty Order, 86 FR 13694 (March 10, 2021) (Order).

³ See Preliminary Results, 87 FR at 35164.

⁴ See Honda Letter, “Certain Vertical Shaft Engines Between 225cc and 999cc, and Parts Thereof from the People's Republic of China, Changed Circumstances Review: Letter in Lieu of Case Brief,” dated July 25, 2022.

Scope of the Order

The merchandise covered by the Order consists of spark-ignited, non-road, vertical shaft engines, whether finished or unfinished, whether assembled or unassembled, primarily for riding lawn mowers and zero-turn radius lawn mowers. Engines meeting this physical description may also be for other non-hand-held outdoor power equipment such as, including but not limited to, tow-behind brush mowers, grinders, and vertical shaft generators. The subject engines are spark ignition, single or multiple cylinder, air cooled, internal combustion engines with vertical power take off shafts with a minimum displacement of 225 cubic centimeters (cc) and a maximum displacement of 999cc. Typically, engines with displacements of this size generate gross power of between 6.7 kilowatts (kw) to 42 kw.

Engines covered by this scope normally must comply with and be certified under Environmental Protection Agency (EPA) air pollution controls title 40, chapter I, subchapter U, part 1054 of the Code of Federal Regulations standards for small non-road spark-ignition engines and equipment. Engines that otherwise meet the physical description of the scope but are not certified under 40 CFR part 1054 and are not certified under other parts of subchapter U of the EPA air pollution controls are not excluded from the scope of the Order. Engines that may be certified under both 40 CFR part 1054 as well as other parts of subchapter U remain subject to the scope of the Order.

For purposes of the Order, an unfinished engine covers at a minimum a sub-assembly comprised of, but not limited to, the following components: crankcase, crankshaft, camshaft, piston(s), and connecting rod(s). Importation of these components together, whether assembled or unassembled, and whether or not accompanied by additional components such as an oil pan, manifold, cylinder head(s), valve train, or valve cover(s), constitutes an unfinished engine for purposes of this Order. The inclusion of other products such as spark plugs fitted into the cylinder head or electrical devices (e.g., ignition modules, ignition coils) for synchronizing with the motor to supply tension current does not remove the product from the scope. The inclusion of any other components not identified as comprising the unfinished engine subassembly in a third country does not remove the engine from the scope.

The engines subject to the Order are typically classified in the Harmonized Tariff Schedule of the United States (HTSUS) at subheadings: 8407.90.1020, 8407.90.1060, and 8407.90.1080. The engine subassemblies that are subject to the Order enter under HTSUS subheading 8409.91.9990. Engines subject to the Order may also enter under HTSUS subheadings 8407.90.9060 and 8407.90.9080. The HTSUS subheadings are provided for convenience and customs purposes only, and the written description of the merchandise subject to the Order is dispositive.

Final Results of Changed Circumstances Review

Having received no comments or information that calls into question the Preliminary Results, we continue to find that Honda is the successor-in-interest to Jialing and, accordingly, Honda is entitled to the AD cash deposit rate previously assigned to Jialing.

Consequently, Commerce will instruct U.S. Customs and Border Protection to suspend liquidation of all shipments of subject merchandise exported by Honda and entered, or withdrawn from warehouse, for consumption on or after the publication date of this notice in the Federal Register at the AD cash deposit rate in effect for Jialing. This cash deposit requirement shall remain in effect until further notice.

Administrative Protective Order

This notice serves as a final reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is published in accordance with sections 751(b)(1) and 777(i) of the Tariff Act of 1930, as amended, and 19 CFR 351.216(e).

Dated: August 9, 2022.
Lisa W. Wang,
Assistant Secretary for Enforcement and Compliance.

[FR Doc. 2022-18210 Filed 8-23-22; 8:45 am]

BILLING CODE 3510-DS-P